DEPARTMENT OF ENERGY

Federal Energy Regulatory Commission

[Project No. 14988-000]

ECOsponsible, LLC; Notice of Preliminary Permit Application Accepted for Filing and Soliciting Comments, Motions To Intervene, and Competing Applications

On April 22, 2019, ECOsponsible, LLC, filed an application for a preliminary permit, pursuant to section 4(f) of the Federal Power Act (FPA), proposing to study the feasibility of the Whitney Point Dam Hydroelectric Project to be located at the U.S. Army Corps of Engineers' (Corps) Whitney Point Dam on the Otselic River in Broome County, New York. The sole purpose of a preliminary permit, if issued, is to grant the permit holder priority to file a license application during the permit term. A preliminary permit does not authorize the permit holder to perform any land-disturbing activities or otherwise enter upon lands or waters owned by others without the owners' express permission.

The proposed project would consist of the following: (1) A new open or covered 50-foot-wide intake flume with a New York State Department of Environmental Conservation-approved trash rack design downstream of the existing Corps' gated outlet; (2) a new 50-foot-long, 50-foot-wide, 50-foot-high powerhouse containing a turbine-generator unit with a capacity of 6 megawatts; (3) an 800-foot-long, 60-foot-wide tailrace; (4) a new switchyard adjacent to the existing parking lot; (5) a new 360-foot-long transmission line connecting the switchyard to a nearby electric grid interconnection point with options to evaluate multiple grid interconnection locations; and (6) appurtenant facilities. The proposed project would have an annual generation of 24,000 megawatt-hours.

Applicant Contact: Dennis Ryan, ECOsponsible, LLC, P.O. Box 114, West Falls, NY 14170; phone: 716-222-2188.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14988-000.

More information about this project, including a copy of the application, can be viewed or printed on the “eLibrary” link of the Commission's website at http://www.ferc.gov/docs-filing/elibrary.asp. Enter the docket number (P-14988) in the docket number field to access the document. For assistance, contact FERC Online Support.

Dated: June 13, 2019.
Kimberly D. Bose,
Secretary.

[FR Doc. 2019-13827 Filed 6-27-19; 8:45 am]

BILLING CODE 6717-01-P